DEPARTMENT OF COMMERCE

National Oceanic and Atmospheric Administration

Proposed Information Collection; Comment Request; Northeast Region Dealer Purchase Reports

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before June 3, 2013.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to David Ulmer, (757) 723-0303 or David.Ulmer@noaa.gov.

SUPPLEMENTARY INFORMATION:

I. Abstract

This request is for extension of a current information collection.

Federally permitted dealers, and any individual acting in the capacity of a dealer, must submit to NOAA's National Marine Fisheries Service (NMFS) Regional Administrator or to the official designee a detailed report of all fish purchased or received for a commercial purpose, other than solely for transport on land by one of the available electronic reporting mechanisms approved by NMFS. The information obtained is used by economists, biologists, and managers in the management of the fisheries. The data collection parameters are consistent with the current requirements for Federal dealers under the authority of the Magnuson-Stevens Fishery Conservation and Management Act.

II. Method of Collection

Dealers submit purchase information through an electronic process by either the Web-based system as administered by the Atlantic Coast Cooperative Statistics Program, the computer-based trip ticket program issued by the NMFS or through a NMF- approved proprietary mechanism, a private industry program which has met NMFS requirements in being able to enter data and submit files in accordance to NMFS regulations.

III. Data

OMB Control Number: 0648-0229.

Form Number: None.

Type of Review: Regular submission (extension of a current information collection).

Affected Public: Business or other for profit organizations.

Estimated Number of Respondents: 781.

Estimated Time Per Response: 4 minutes per fishing trip.

Estimated Total Annual Burden Hours: 2,643.

Estimated Total Annual Cost to Public: $460,200 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 28, 2013.
Gwellnar Banks,
Management Analyst, Office of the Chief Information Officer.

[FR Doc. 2013-07624 Filed 4-1-13; 8:45 am]

BILLING CODE 3510-22-P